DEPARTMENT OF AGRICULTURE

Office of the Secretary

Intergovernmental Advisory Committee (IAC)

AGENCY: Office of the Secretary, USDA.

ACTION: Notice of advisory committee reestablishment.

SUMMARY: In response to the continued need of the U.S. Department of Agriculture and the U.S. Department of the Interior for advice on coordination and implementation of the Record of Decision (ROD) of April 13, 1994, for Management of Habitat for Late-Successional and Old-Growth Forest Related Species Within the Range of the Northern Spotted Owl, the Departments have reestablished the Intergovernmental Advisory Committee (IAC). The purpose of the IAC is to provide intergovernmental advice on coordinating the implementation of the ROD. The IAC provides advice and recommendations to promote integration and coordination of forest management activities among Federal and non-Federal entities.

FOR FURTHER INFORMATION CONTACT: Jonathan Stephens, Planning Specialist, Forest Service, USDA, (202) 205-0948.

SUPPLEMENTARY INFORMATION: Pursuant to the Federal Advisory Committee Act (5 U.S.C. App.), notice is hereby given that the U.S. Department of Agriculture in consultation with the Department of the Interior has reestablished the IAC to the Regional Interagency Executive Committee (RIEC). The purpose of the RIEC is to facilitate the coordinated implementation of the ROD of April 13, 1994. The RIEC consists of representatives of the following Federal agencies: the Forest Service, Bureau of Land Management, U.S. Fish and Wildlife Service, National Marine Fisheries Service, National Park Service, Bureau of Indian Affairs, Environmental Protection Agency, U.S. Army Corps of Engineers, Natural Resource Conservation Service, Forest Service Research, Environmental Protection Agency Research, and U.S. Geological Survey Biological Resources Division. The purpose of the IAC is to advise the RIEC on coordinating the implementation of the ROD. The IAC provides advice and recommendations to promote integration and coordination of forest management activities among Federal and non-Federal entities.

The IAC is considered to be in the public interest in connection with the duties and responsibilities of the managing agencies for developing an ecosystem management approach that is consistent with statutory authority for land use planning. Ecosystem management at the province level requires improved coordination among the governmental entities responsible for land management decisions and the public those agencies serve.

The chairing responsibility of the IAC will alternate annually between the Forest Service and the Bureau of Land Management representative. The Executive Director, Regional Ecosystem Office, will serve as the designated federal official under sections 10(e) and (f) of the Federal Advisory Committee Act (5 U.S.C. APP.).

The renewal of the IAC does not require an amendment of Bureau of Land Management or Forest Service planning documents because the reestablishment does not affect the standards and guidelines or land allocations. The Bureau of Land Management and the Forest Service will give further notice, as needed, of additional actions or adjustments when implementing interagency coordination, public involvement, and other aspects of the ROD.

Equal opportunity practices are followed in all appointments to the advisory committee. To ensure that the recommendations of the IAC have taken into account the needs of diverse groups served by the Departments, membership includes to the extent practicable individuals with demonstrated ability to represent minorities, women, persons with disabilities, and senior citizens.

Dated: January 12, 2001.
Paul W. Fiddick,
Assistant Secretary for Administration.

[FR Doc. 01-2123 Filed 1-23-01; 8:45 am]

BILLING CODE 3410-11-M